DEPARTMENT OF TRANSPORTATION

Federal Aviation Administration

Forty Seventh RTCA SC206 Aeronautical Information and Meteorological Data Link Services Plenary

AGENCY: Federal Aviation Administration (FAA), U.S. Department of Transportation (DOT).

ACTION: Forty Seventh RTCA SC206 Aeronautical Information and Meteorological Data Link Services Plenary.

SUMMARY: The FAA is issuing this notice to advise the public of a meeting of Forty Seventh RTCA SC206 Aeronautical Information and Meteorological Data Link Services Plenary.

DATES: The meeting will be held July 10, 2017, 09:30 a.m.-12:00 p.m.

ADDRESSES: The meeting will be held at: RTCA Headquarters, 1150 18th Street NW., Suite 910, Washington, DC 20036.

FOR FURTHER INFORMATION, CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Forty Seventh RTCA SC206 Plenary. The agenda will include the following:

Monday, May 10, 2017—9:00 a.m.-12:00 p.m.

1. Opening remarks: DFO, RTCA, and Chairman

2. Attendees' introductions

3. Review and approval of meeting agenda

4. Approval of December 2016 meeting minutes (Washington, DC)

5. Action item review

6. Sub-Groups reports

a. SG1: CSC JC and Other SC Coordination

b. SG5: FIS-B MOPS

7. Document approval

a. SG7: Wind Document FRAC Resolution

b. SG4: EDR Guidelines for FRAC Release

8. TOR Changes

a. SG4: Document type and title

b. SG5: Schedule change for new products and scope

9. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 15, 2017.
Mohannad Dawoud,
Management & Program Analyst, Partnership Contracts Branch, ANG-A17, NextGen, Procurement Services Division, Federal Aviation Administration.

[FR Doc. 2017-12843 Filed 6-19-17; 8:45 am]

BILLING CODE 4910-13-P